NUCLEAR REGULATORY COMMISSION

[Docket Nos. 50-280 and 50-281; NRC-2020-0099]

Virginia Electric and Power Company; Surry Power Station, Units 1 and 2

AGENCY: Nuclear Regulatory Commission.

ACTION: Exemption; issuance.

SUMMARY: The U.S. Nuclear Regulatory Commission (NRC) has issued an exemption in response to an April 6, 2020, request from the Virginia Electric and Power Company to temporarily suspend the requirement for on-the-job training to allow certain security training personnel to re-qualify for assigned duties and responsibilities as an Armed Responder for the Surry Power Station, Units 1 and 2.

DATES: The exemption was issued on April 9, 2020.

ADDRESSES: Please refer to Docket ID NRC-2020-0099. You may obtain publicly-available information related to this document using any of the following methods:

• Federal Rulemaking Website: Go to https://www.regulations.gov and search for Docket ID NRC-2020-0099. Address questions about NRC dockets IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

The exemption request dated April 6, 2020, contains security-related information and is accordingly withheld from public disclosure under 10 CFR 2.390. NRC staff's approval is available in ADAMS under Package Accession No. ML20098E802.

FOR FURTHER INFORMATION CONTACT: Shawn A. Williams, Office of Nuclear Reactor Regulation, U.S. Nuclear Regulatory Commission, Washington, DC 20555-0001; telephone: 301-415-1009, email: Shawn.Williams@nrc.gov.

SUPPLEMENTARY INFORMATION: The text of the exemption is attached.

Dated: April 22, 2020.
For the Nuclear Regulatory Commission.
Shawn A. Williams,
Senior Project Manager, Plant Licensing Branch II-1 Division of Operating Reactor Licensing, Office of Nuclear Reactor Regulation.

Attachment—Exemption 10 CFR 73, Appendix B, Section VI.C.2., Subsections (a) and (b)

Nuclear Regulatory Commission

Docket Nos. 50-280, and 50-281

Virginia Electric and Power Company, Surry Power Station, Units 1 and 2 Exemption

I. Background

Virginia Electric and Power Company (the licensee) is the holder of the Renewed Facility Operating License Nos. DPR-32 and DPR-37 for Surry Power Station, Units 1 and 2 (Surry), which consists of two pressurized-water reactors (PWRs) located in Surry County, Virginia. The licenses provide, among other things, that the facilities are subject to all the rules, regulations, and orders of the U.S. Nuclear Regulatory Commission (NRC, Commission) now or hereafter in effect.

II. Request/Action

By letter dated, April 6, 2020, (Agencywide Documents Access and Management System (ADAMS) Accession No. ML20099B303, withheld from public disclosure) the licensee requested an exemption from Title 10 of the Code of Federal Regulations (10 CFR), Part 73, Appendix B, Section VI, “Nuclear Power Reactor Training and Qualification Plan for Personnel Performing Security Program Duties,” subsections C.2(a) and (b), pursuant to 10 CFR 73.5, “Specific exemptions.” Due to the Coronavirus Disease 2019 (COVID-19) pandemic currently affecting the United States and the state of emergency declared by the Commonwealth of Virginia on March 12, 2020, the licensee is requesting an exemption from these subsections to temporarily suspend the requirement for 40 hours of on-the-job training (OJT) to allow the following security training personnel positions located at Surry and Innsbrook Technical Center (Dominion Energy corporate) to re-qualify for assigned duties and responsibilities as an Armed Responder at Surry: Supervisor Nuclear Security Training, Nuclear Security Trainer, Associated Nuclear Security Trainer/Armorer, and Nuclear Security Training Specialist (hereafter Security Training Staff). The exemption would apply to sequestered Security Training Staff used to support the licensee's security pandemic response team (PRT) that may be relied upon to augment and maintain the required minimum security staffing levels at Surry, if needed. These Security Training Staff would then become part of the PRT as Armed Responders.

III. Discussion

Pursuant to 10 CFR 73.5, the Commission may, upon application by any interested person or upon its own initiative, grant exemptions from the requirements of 10 CFR part 73 when the exemptions are authorized by law, will not endanger life or property or the common defense and security, and are otherwise in the public interest.

The licensee requests to temporarily suspend requirements in Appendix B to Part 73, Section VI, subsections C.2(a) and C.2(b) related to OJT to allow Security Training Staff at Surry and Dominion Energy corporate to re-qualify for assigned duties and responsibilities as an Armed Responder. Section VI.C.2(a) and (b) requires, in part, that Armed Responders shall complete a minimum of 40 hours of OJT prior to assignment to demonstrate their ability to effectively apply the knowledge, skills, and abilities required to effectively perform assigned duties and responsibilities. The underlying purpose of these requirements are to ensure that the individuals can perform their duties in accordance with the licensee's approved security plans.

A. The Exemption Is Authorized By Law

The licensee is proposing that certain Security Training Staff positions be exempt from the requirement to complete a minimum of 40 hours of OJT for the purpose of re-qualifying for assigned duties and responsibilities as an Armed Responder at Surry. The NRC staff examined the licensee's rationale that supports the exemption request.

The licensee stated that the Security Training Staff are subject matter experts in security and currently train individuals to perform security duties and implement the response strategy and are on-the-job qualified evaluators. The licensee indicated that the current Security Training Staff at Surry and Dominion Energy corporate were each at one time qualified, at a minimum, as an Armed Responder, which means they have already completed 40 hours of OJT or have been part of the training staff since before inception of the 40-hour OJT requirement. These Security Training Staff re-qualifying as Armed Responders will be required to comply with the other applicable regulatory requirements for training and qualification.

The licensee relies on the expertise of the Security Training Staff to inform security processes, firearms-related activities, and force-on-force activities. The licensee attests that the Security Training Staff provides status updates on Surry processes and procedures, lesson plans, and dynamic learning activities, and that they continually perform activities associated with Surry's protective strategy and adjustments, terminology, or changes associated to the strategy. Additionally, the licensee indicated it requalified the Security Training Staff on the critical tasks of an Armed Responder in the Critical Task Matrix specified in the combined Millstone, North Anna and Surry Power Stations' Security Plan, Training and Qualification Plan, Safeguards Contingency Plan, and Independent Spent Fuel Storage Installation Security Program.

In accordance with 10 CFR 73.5, the Commission may grant exemptions from the regulations in 10 CFR part 73, as authorized by law. The NRC staff finds that granting the licensee's proposed exemption will not result in a violation of the Atomic Energy Act of 1954, as amended, or other laws, and is, thus, authorized by law.

B. The Exemption Will Not Endanger Life or Property or the Common Defense and Security

The licensee stated that: “Re-qualifying Security Training Staff as Armed Responders increases the margin to maintain minimum staffing. Security Training Staff are considered subject matter experts in each of the fields they instruct. At [Surry] qualified trainers are certified to instruct all regulatory related items in 10 CFR 73 Appendix B. They have expert level knowledge of the protective strategy, security procedures, and target sets.” The licensee requested that this exemption expire 90 days following the lifting of the state of emergency declared by the Commonwealth of Virginia on March 12, 2020.

The NRC staff finds that the requested exemption will continue to allow the licensee to maintain the required security posture as the licensee will have the ability to re-qualify Security Training Staff as Armed Responders to ensure that minimum security staffing will be maintained. In addition, granting this exemption for no longer than 90 days following the lifting of the state of emergency declared by the Commonwealth of Virginia on March 12, 2020, the jurisdiction in which this facility is located, would allow for the licensee to restore normal security staffing in a systematic manner. For example, it may take time after the state of emergency is lifted for COVID-19-affected security personnel to fully recover and return to work. The licensee may also need the Security Training Staff to remain on shift until it completes range activities or annual re-qualifications (e.g., firearms familiarization or qualification, use of force, etc.) for some regular members of the security force that may be due for such training.

Based on the above, the NRC staff concludes that the proposed exemption would not endanger life or property or the common defense and security.

C. Otherwise in the Public Interest

On March 28, 2020, the Cybersecurity & Infrastructure Security Agency (CISA) within the U.S. Department of Homeland Security (DHS) published Version 2.0 of its “Guidance on the Essential Critical Infrastructure Workforce: Ensuring Community and National Resilience in COVID-19 Response” (https://www.cisa.gov/publication/guidance-essential-critical-infrastructure-workforce). Although that guidance is advisory in nature, it is designed to ensure “continuity of functions critical to public health and safety, as well as economic and national security.” DHS and CISA recommend the Energy Sector, including nuclear power reactor facilities, workers and functions, continue to operate during the COVID-19 public health emergency.

The licensee states, in part, that, “Maintaining SPS [Surry] in operation and secure during the pandemic will help to support the public need for reliable electricity supply to cope with the pandemic. If the plant is forced to shut down because it cannot comply with minimum staffing requirements, the area electrical grid would lose this reliable source of baseload power. In addition, SPS [Surry] personnel would face the added transient challenge of shutting down the plant and possibly not restarting it until the pandemic passes. This does not serve the public interest in maintaining a safe and reliable supply of electricity. In addition, maintaining the necessary security staff onsite promotes the safety and security of the plant, and, as a result, promotes the health, safety and security of the public as well.”

Additionally, the licensee stated that, “There would be an increased risk of exposure to the coronavirus if these individuals [the Security Training Staff] were required to complete the 40-hour on-shift OJT requirement. Placing these individuals on-shift and rotating them through multiple security posts to complete the 40-hour OJT requirement would require interaction with multiple people, thus increasing the risk of exposure to the coronavirus.”

Based on the above and the NRC staff's aforementioned findings, the NRC staff concludes that the exemption is in the public interest because it allows the licensee to maintain the required security posture at Surry while the facility continues to provide electrical power. The exemption also enables the licensee to minimize the risk of exposing essential security personnel to the coronavirus during the COVID-19 public health emergency.

D. Environmental Considerations

The NRC staff's approval of this exemption request is categorically excluded under 10 CFR 51.22(c)(25)(vi)(E), and there are no special circumstances present that would preclude reliance on this exclusion. The NRC staff determined that this action applies to granting of an exemption from requirements relating to education, training, experience, qualification, requalification, or other employment suitability requirements. The NRC staff have determined that approval of this exemption request involves no significant hazards consideration; no significant change in the types or significant increase in the amounts of any effluents that may be released offsite; no significant increase in individual or cumulative public or occupational radiation exposure; no significant construction impact; and no significant increase in the potential for or consequences from radiological accidents. In addition, the NRC staff has determined that there would be no significant impacts to biota, water resources, historic properties, cultural resources, or socioeconomic conditions in the region. As such, there are no extraordinary circumstances present that would preclude reliance on this categorical exclusion. Therefore, pursuant to 10 CFR 51.22(b), no environmental impact statement or environmental assessment need be prepared in connection with the approval of this exemption request.

IV. Conclusions

Accordingly, the Commission has determined that pursuant to 10 CFR part 73.5 the exemption is authorized by law, will not endanger life or property or the common defense and security, and are otherwise in the public interest. Therefore, the Commission hereby grants the licensee an exemption from the requirements of 10 CFR 73, Appendix B, Section VI, Subsection C.2(a) and C.2(b), for Surry for those individuals occupying the identified positions on the Security Training Staff as of April 9, 2020. This exemption would not be applicable to any subsequent requalification. This exemption expires no later than 90 days following the lifting of the state of emergency declared by the Commonwealth of Virginia on March 12, 2020.

Dated at Rockville, Maryland, this 9th day of April 2020.
For the Nuclear Regulatory Commission.
Craig Erlanger,
Director, Division of Operating Reactor Licensing, Office of Nuclear Reactor Regulation.

[FR Doc. 2020-08847 Filed 4-24-20; 8:45 am]

BILLING CODE 7590-01-P